FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 10, 2003.

A. Federal Reserve Bank of Kansas City (James Hunter, Assistant Vice President) 925 Grand Avenue, Kansas City, Missouri 64198-0001:

1. Randy and Jenifer Trimble, Burlington, Kansas individually and as co-trustees of the Randall L. Trimble Living Trust, to acquire control of Flint Hills Bancshares, Inc., Gridley, Kansas, and thereby indirectly acquire Citizens State Bank, Gridley, Kansas.

2. M.D. Michaelis, Paula Sue Michaelis, Donald E. Schrag, and L. Thomas Veatch, all of Wichita, Kansas, as trustees of the M.D. Michaelis Trust F, the Paula Sue Michaelis Trust F, the Matthew Michaelis Trust F, the Laura Haunschild Trust F, and the Amy Loflin Trust F, to acquire control of Emprise Financial Corporation, Wichita, Kansas, and thereby indirectly acquire Emprise Bank, Wichita, Kansas; Emprise Bank, National Association, Hays, Kansas; Emprise Bank, Iola, Kansas; and Emprise Bank, National Association, Hillsboro, Kansas.

Board of Governors of the Federal Reserve System, October 21, 2003.
Robert deV. Frierson,
Deputy Secretary of the Board.

[FR Doc. 03-26965 Filed 10-24-03; 8:45 am]

BILLING CODE 6210-01-S